DEPARTMENT OF ENERGY

Federal Energy Regulatory Commission

[Docket Nos. CP14-347-000, CP19-19-000]

Magnolia LNG, LLC; Notice of Intent To Prepare a Supplemental Environmental Impact Statement for the Proposed Magnolia LNG Production Capacity Amendment and Request for Comments on Environmental Issues

The staff of the Federal Energy Regulatory Commission (FERC or Commission) will prepare a supplemental environmental impact statement (supplemental EIS) that will discuss the potential environmental impacts resulting from Magnolia LNG, LLC's (Magnolia LNG) proposal to increase the liquefied natural gas (LNG) production capacity at its authorized LNG facility in Calcasieu, Louisiana from that previously approved by the Commission in Docket No. CP14-347-000 (Magnolia LNG Production Capacity Amendment). The Commission will use this supplemental EIS in its decision-making process to determine whether Magnolia LNG's proposed amendment is in the public interest.

This notice announces the opening of the scoping process the Commission will use to gather input from the public and interested agencies about issues regarding the project amendment. The National Environmental Policy Act (NEPA) requires the Commission to take into account the environmental impacts that could result from its action whenever it considers whether or not to authorize a project. NEPA also requires the Commission to discover concerns the public may have about proposals. This process is referred to as “scoping.” The main goal of the scoping process is to focus the analysis in the supplemental EIS on the important environmental issues. By this notice, the Commission requests public comments on the scope of issues to address in the supplemental EIS. Please note that your comments should be specific to the Production Capacity Amendment, which is described further below. Comments relating only to non-related aspects of the already approved Magnolia LNG Project will not be considered in the supplemental EIS. To ensure that your comments are timely and properly recorded, please submit your comments so that the Commission receives them in Washington, DC on or before 5:00 p.m. Eastern Time on July 8, 2019.

You can make a difference by submitting your specific comments or concerns about the project amendment. Your comments should focus on the potential environmental effects, reasonable alternatives, and measures to avoid or lessen environmental impacts. Your input will help the Commission staff determine what issues they need to evaluate in the supplemental EIS.

This notice is being sent to the Commission's current environmental mailing list for this project amendment. State and local government representatives should notify their constituents of this proposed project amendment and encourage them to comment on their areas of concern.

Public Participation

The Commission offers a free service called eSubscription which makes it easy to stay informed of all issuances and submittals regarding the dockets/projects to which you subscribe. These instant email notifications are the fastest way to receive notification and provide a link to the document files which can reduce the amount of time you spend researching proceedings. To sign up go to www.ferc.gov/docs-filing/esubscription.asp.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to Documents and Filings. Using eComment is an easy method for submitting brief, text-only comments on a project;

(2) You can file your comments electronically by using the eFiling feature, which is located on the Commission's website (www.ferc.gov) under the link to Documents and Filings. With eFiling, you can provide comments in a variety of formats by attaching them as a file with your submission. New eFiling users must first create an account by clicking on eRegister. You will be asked to select the type of filing you are making; a comment on a particular project is considered a Comment on a Filing; or

(3) You can file a paper copy of your comments by mailing them to the following address. Be sure to reference the project amendment docket number (CP19-19-000) with your submission: Kimberly D. Bose, Secretary, Federal Energy Regulatory Commission, 888 First Street NE, Room 1A, Washington, DC 20426.

Please note this is not your only public input opportunity; a 45-day public comment period will be established once the draft supplemental EIS is issued.

Summary of the Proposed Project Amendment

Magnolia LNG requests authorization to increase the previously authorized LNG production capacity of the Magnolia LNG Project (Docket No. CP14-347-000) from 8 million tons per annum (MTPA) to 8.8 MTPA. Magnolia LNG states that the increased LNG production capacity would be realized through the optimization of its final design and would not require any increase in the authorized feed gas rates. Magnolia LNG does not propose any additional construction or new or modified facilities already considered and approved in Docket No. CP14-347-000 (i.e., the approved LNG terminal site in Lake Charles, Calcasieu Parish, Louisiana ¹.) Magnolia LNG also affirms that the annual number of LNG takers (vessel traffic) would not change from that already reviewed and approved by the U.S. Coast Guard.

¹ The LNG terminal site location and staff's evaluation of the original (approved) Magnolia LNG Project are in the Commission's final EIS for the project, issued on November 13, 2015. That EIS is available at www.ferc.gov using the link called eLibrary or from the Commission's Public Reference Room, 888 First Street NE, Washington, DC 20426, or call (202) 502-8371. For instructions on connecting to eLibrary, refer to the last page of this notice.

The Supplemental EIS Process and Identified Issues

The supplemental EIS will discuss impacts that could occur as a result of the proposed increase in production capacity described above. To date, we have identified potential environmental concerns related to the proposed process conditions for LNG, anhydrous ammonia, and other process fluids. As a result, Magnolia LNG indicated revised hazard distances with increased offsite impacts. Therefore, associated hazard mitigation, such as impoundment designs and other fire protection systems need to be reevaluated as a result of the higher production rate. There may also be revisions to air emissions and noise levels; if so, these will be evaluated and discussed in the supplemental EIS. Commission staff will also evaluate reasonable alternatives to the proposed project amendment or portions of the project amendment, and make recommendations on how to lessen or avoid impacts on the various resource areas.

The supplemental EIS will present Commission staffs' independent analysis of the issues. The draft supplemental EIS will be available in electronic format in the public record through eLibrary ² and the Commission's website (https://www.ferc.gov/industries/gas/enviro/eis.asp). If eSubscribed, you will receive instant email notification when the draft EIS is issued. The draft EIS will be issued for an allotted public comment period. After the comment period on the draft EIS, Commission staff will consider all timely comments and revise the document, as necessary, before issuing a final EIS. To ensure Commission staff have the opportunity to address your comments, please carefully follow the instructions in the Public Participation section, beginning on page 2.

² For instructions on connecting to eLibrary, refer to the last page of this notice.

With this notice, the Commission is asking agencies with jurisdiction by law and/or special expertise with respect to the environmental issues of this project amendment to formally cooperate in the preparation of the supplemental EIS.³ Agencies that would like to request cooperating agency status should follow the instructions for filing comments provided under the Public Participation section of this notice. The U.S. Department of Transportation's Pipeline and Hazardous Materials Safety Administration and the U.S. Coast Guard will participate as cooperating agencies in the preparation of the supplemental EIS.

³ The Council on Environmental Quality regulations addressing cooperating agency responsibilities are at Title 40, Code of Federal Regulations, Part 1501.6.

Environmental Mailing List

The environmental mailing list includes federal, state, and local government representatives and agencies; elected officials; environmental and public interest groups; Native American Tribes; other interested parties; and local libraries and newspapers. This list also includes all affected landowners (as defined in the Commission's regulations) for the original Magnolia LNG Project who are potential right-of-way grantors, whose property may be used temporarily for project purposes, or who own homes within certain distances of aboveground facilities (including the LNG terminal site), and anyone who submits comments on the project amendment. Commission staff will update the environmental mailing list as the analysis proceeds to ensure that Commission notices related to this environmental review are sent to all individuals, organizations, and government entities interested in and/or potentially affected by the proposed project amendment.

A Notice of Availability of the draft EIS will be sent to the environmental mailing list and will provide instructions to access the electronic document on the FERC's website (www.ferc.gov). If you need to make changes to your name/address, or if you would like to remove your name from the mailing list, please return the attached “Mailing List Update Form” (appendix).⁴

⁴ The return mailer appendix referenced in this notice will not appear in the Federal Register, but was sent to all those receiving this notice in the mail.

Additional Information

Additional information about the project amendment is available from the Commission's Office of External Affairs, at (866) 208-FERC, or on the FERC website at www.ferc.gov using the eLibrary link. Click on the eLibrary link, click on General Search and enter the docket number in the Docket Number field, excluding the last three digits (i.e., CP19-19). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at www.ferc.gov/EventCalendar/EventsList.aspx along with other related information.

Dated: June 7, 2019.
Kimberly D. Bose,
Secretary.

[FR Doc. 2019-12456 Filed 6-12-19; 8:45 am]

BILLING CODE 6717-01-P